DEPARTMENT OF HOMELAND SECURITY

[Docket No. DHS-2012-0056]

National Infrastructure Advisory Council

AGENCY: National Protection and Programs Directorate, DHS.

ACTION: Committee Management; Notice of an open Federal Advisory Committee Meeting.

SUMMARY: The National Infrastructure Advisory Council (NIAC) will meet Tuesday, October 16, 2012, at the United States Access Board, 1331 F Street NW., Suite 800, Washington, DC 20004. The meeting will be open to the public.

DATES: The NIAC will meet Tuesday, October 16, 2012, from 1:30 p.m. to 4:30 p.m. The meeting may close early if the committee has completed its business. For additional information, please consult the NIAC Web site, www.dhs.gov/NIAC, or contact the NIAC Secretariat by phone at (703) 235-2888 or by email at NIAC@hq.dhs.gov.

ADDRESSES: United States Access Board, 1331 F Street NW., Suite 800, Washington, DC 20004.

For information on facilities or services for individuals with disabilities or to request special assistance at the meeting, contact the person listed under FOR FURTHER INFORMATION CONTACT, below as soon as possible.

To facilitate public participation, we are inviting public comment on the issues to be considered by the Council as listed in the SUMMARY section below. Comments must be submitted in writing no later than October 11, 2012, and must be identified by “DHS-2012-0056” and may be submitted by any one of the following methods:

• Federal eRulemaking Portal: www.regulations.gov. Follow the instructions for submitting written comments.

• Email: NIAC@hq.dhs.gov. Include the docket number in the subject line of the message.

• Fax: (703) 603-5098.

• Mail: Nancy Wong, National Protection and Programs Directorate, Department of Homeland Security, 245 Murray Lane SW., Mail Stop 0607, Arlington, VA 20598-0607.

Instructions: All written submissions received must include the words “Department of Homeland Security” and the docket number for this action. Written comments received will be posted without alteration at www.regulations.gov, including any personal information provided.

Docket: For access to the docket to read background documents or comments received by the NIAC, go to www.regulations.gov.

Members of the public will have an opportunity to provide oral comments after the presentation of the report from the Regional Resilience Working Group. We request that comments be limited to the issues listed in the meeting agenda and previous NIAC studies. All previous NIAC studies can be located at www.dhs.gov/NIAC. Relevant public comments may be submitted in writing or presented in person for the Council to consider. Comments received by Nancy Wong after October 11, 2012, will still be accepted and reviewed by the members, but not necessarily by the time of the meeting. In-person presentations will be limited to 3 minutes per speaker, with no more than 30 minutes for all speakers. Parties interested in making in-person comments should register no later than 15 minutes prior to the beginning of the meeting at the meeting location.

FOR FURTHER INFORMATION CONTACT: Nancy Wong, National Infrastructure Advisory Council Designated Federal Officer, Department of Homeland Security, telephone (703) 235-2888.

SUPPLEMENTARY INFORMATION: Notice of this meeting is given under the Federal Advisory Committee Act, 5 U.S.C. App. (Pub. L. 92-463). The NIAC shall provide the President through the Secretary of Homeland Security with advice on the security of the critical infrastructure sectors and their information systems.

The NIAC will meet to discuss issues relevant to the protection of critical infrastructure as directed by the President. At this meeting, the Council will receive and discuss a presentation from the NIAC Regional Resilience Working Group documenting their work to date on the Regional Resilience Study, which includes the role and impact of critical infrastructure on regional resiliency, best regional practices and models, and the contribution of public private partnerships. The presentation will be posted no later than one week prior to the meeting on the Council's public Web page on www.dhs.gov/NIAC. The Council will review and discuss the findings of the Working Group. Federal officials will provide further direction to the Council on the scope of the Working Group's study.

The Federal Advisory Committee Act requires that notices of meetings of advisory committees be announced in the Federal Register 15 days prior to the meeting date.

This notice of the NIAC meeting is published in the Federal Register with less than 15 days notice due to the complexity of the issues within the current study. Due to the complexities, the NIAC Working Group was not able to complete the interim finding of the report within this aggressive time line. Waiting for the full 15 day notice period to conduct the meeting will delay the discussion of the report. In order to not delay the continuation of this important study, this meeting is being announced with less than 15 days notice.

Meeting Agenda

I. Opening of Meeting

II. Roll Call of Members

III. Opening Remarks and Introductions

IV. Approval of July 17, 2012, minutes

V. NIAC Presentation on Regional Resilience Working Group

VI. Public Comment: Discussion Limited to Meeting Agenda Items and Previous NIAC Studies

VII. Closing Remarks

Information on Services for Individuals With Disabilities

For information on facilities or services for individuals with disabilities or to request special assistance at the meeting, contact the NIAC Secretariat at (703) 235-2888 as soon as possible.

Dated: October 3, 2012.
Nancy Wong,
Designated Federal Officer for the NIAC.

[FR Doc. 2012-25176 Filed 10-12-12; 8:45 am]

BILLING CODE 9110-9P-P